DEPARTMENT OF TRANSPORTATION

Surface Transportation Board

[Docket No. FD 35963 (Sub-No. 1)]

BNSF Railway Company—Temporary Trackage Rights Exemption—Union Pacific Railroad Company

AGENCY: Surface Transportation Board, DOT.

ACTION: Partial revocation of exemption.

SUMMARY: Under 49 U.S.C. 10502, the Board revokes the class exemption as it pertains to the local trackage rights described in Docket No. FD 35963 to permit the temporary trackage rights to expire at midnight on December 31, 2018, in accordance with the agreement of the parties,¹ subject to the employee protective conditions set forth in Oregon Short Line Railroad—Abandonment Portion Goshen Branch Between Firth & Ammon, in Bingham & Bonneville Counties, Idaho (Oregon Short Line), 360 I.C.C. 91 (1979).

¹ In that docket, on October 30, 2015, BNSF Railway Company (BNSF) filed a verified notice of exemption under the Board's class exemption procedures at 49 CFR 1180.2(d)(7). The notice covered the agreement by Union Pacific Railroad Company (UP) to grant restricted local trackage rights to BNSF over UP's lines as follows: (1) Between UP milepost 93.2 at Stockton, Cal., on UP's Oakland Subdivision, and UP milepost 219.4 at Elsey, Cal., on UP's Canyon Subdivision, a distance of 126.2 miles; and (2) between UP milepost 219.4 at Elsey and UP milepost 280.7 at Keddie, Cal., on UP's Canyon Subdivision, a distance of 61.3 miles. BNSF submits that, while the trackage rights are only temporary rights, because they are “local” rather than “overhead” rights, they do not qualify for the Board's class exemption for temporary trackage rights under 49 CFR 1180.2(d)(8).

DATES: This decision is effective on January 16, 2016. Petitions to stay must be filed by December 28, 2015. Petitions for reconsideration must be filed by January 6, 2016.

ADDRESSES: Send an original and 10 copies of all pleadings, referring to Docket No. FD 35963 (Sub-No. 1) to: Surface Transportation Board, 395 E Street SW., Washington, DC 20423-0001. In addition, a copy of each pleading must be served on BNSF's representative: Karl Morell, Karl Morell & Associates, 655 15th Street NW., Suite 225, Washington, DC 20005.

FOR FURTHER INFORMATION CONTACT: Amy Ziehm (202) 245-0391. [Assistance for the hearing impaired is available through the Federal Information Relay Service (FIRS) at 1-800-877-8339.]

SUPPLEMENTARY INFORMATION: Additional information is contained in the Board's decision. Board decisions and notices are available on our Web site at http://www.stb.dot.gov.

Decided: December 11, 2015.
By the Board, Chairman Elliott, Vice Chairman Begeman, and Commissioner Miller.
Tia Delano,
Clearance Clerk.

[FR Doc. 2015-31726 Filed 12-16-15; 8:45 am]

BILLING CODE 4915-01-P